DEPARTMENT OF TRANSPORTATION

Coast Guard

[USCG-2000-7201]

Commercial Fishing Industry Vessel Advisory Committee (CFIVAC); Vacancies

AGENCY: Coast Guard, DOT.

ACTION: Request for applications.

SUMMARY: The Coast Guard seeks applications for membership on the Commercial Fishing Industry Vessel Advisory Committee (CFIVAC). CFIVAC advises the Coast Guard on safety in the commercial fishing industry.

DATES: Application forms should reach us on or before June 1, 2000.

ADDRESSES: You may request an application form by writing to Commandant (G-MOC-3), U.S. Coast Guard, Room 1116, 2100 Second Street SW., Washington, DC 20593-0001, by calling 202-267-2978; or by faxing 202-267-0506. Send your application in written form to the above street address. This notice is available on the internet at http://dms.dot.gov.

FOR FURTHER INFORMATION CONTACT: Lieutenant Jennifer Williams, Assistant Executive Director of CFIVAC, or Ensign Chris O'Neal, telephone (202) 267-2008, fax (202) 267-0506.

SUPPLEMENTARY INFORMATION: The Commercial Fishing Industry Vessel Advisory Committee (CFIVAC) is a Federal advisory committee under 5 U.S.C. App. 2. It advises the Assistant Commandant for Marine Safety and Environmental Protection, on the safe operation of U.S.-flag commercial fishing vessels. This advice assists us in formulating regulations and programs designed to improve safety on commercial fishing vessels.

CFIVAC meets at least once a year in different seaport cities nationwide. Special meetings may also be called. Subcommittee meetings are held to consider specific problems as required.

We will consider applications for six positions that expire or become vacant in October 2000 in the following categories: (a) Commercial Fishing Industry (four positions); (b) General Public (one position); (c) Surveyor/Naval Architect (one position). To be eligible, you should have experience in the operation of commercial fishing vessels, maritime safety, safety education, or marine surveying/naval architecture. Each member serves for a term of 3 years. A few members may serve consecutive terms. All members serve at their own expense and receive no salary, however members will be reimbursed for travel expenses.

In support of the U.S. Department of Transportation's policy on ethnic and gender diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a).

Dated: April 3, 2000.
Rear Admiral Robert C. North,
Acting Assistant Commandant for Marine Safety and Environmental Protection.

[FR Doc. 00-9249 Filed 4-12-00; 8:45 am]

BILLING CODE 4910-15-M